DEPARTMENT OF AGRICULTURE

Agricultural Marketing Service

[Doc. No. AMS-FTPP-22-0013]

Information Collection for USDA/DOJ Complaint Portal: FarmerFairness.gov

AGENCY: Agricultural Marketing Service, USDA.

ACTION: Notice and request for comments.

SUMMARY: In accordance with the Paperwork Reduction Act of 1995 (PRA), this notice announces the Agricultural Marketing Service's (AMS) intention to request approval, from the Office of Management and Budget, for an information collection package for the web form to be used for the collection of complaints and tips from the public through the FarmerFairness.gov web portal. The U.S. Department of Agriculture (USDA) and the Department of Justice (DOJ) launched a web portal to allow farmers, ranchers and interested persons to report a complaint or submit information regarding potential violations of the Packers and Stockyards (P&S) Act or other federal anti-trust laws. USDA and DOJ will assess information collected to determine appropriate jurisdiction and any follow up actions. The joint USDA/DOJ web portal, FarmerFairness.gov, is subject to the reporting and recordkeeping requirements under the P&S Act.

DATES: Comments on this notice must be received by June 10, 2022 to be assured of consideration.

ADDRESSES: Interested persons are invited to submit comments concerning this notice by using the electronic process available at https://www.regulations.gov/. All comments should reference the document number and the date and page number of this issue of the Federal Register. All comments submitted in response to this notice will be posted without change, including any personal information provided, at https://www.regulations.gov/ and will be included in the record and made available to the public.

FOR FURTHER INFORMATION CONTACT: S. Brett Offutt, Chief Legal Officer/Policy Advisor, Packers and Stockyards Division, USDA AMS Fair Trade Practices Program, 1400 Independence Ave. SW, stop 3601, Washington, DC 20250; Phone: (202) 690-4355; or Email: s.brett.offutt@usda.gov.

SUPPLEMENTARY INFORMATION: Agency: AMS, USDA.

Title: FarmerFairness.gov USDA/DOJ Complaint Web Portal.

OMB Number: 0581-0333.

Expiration Date of Approval: May 31, 2022.

Type of Request: Extension and revision of a currently approved information collection.

Abstract: The P&S Act and the regulations issued under the P&S Act authorize the collection of information for the purpose of enforcing the P&S Act and regulations and for conducting studies requested by Congress. The laws and regulations relating to competition in the meat and poultry industries confer separate and overlapping jurisdiction to the U.S. Department of Agriculture and the U.S. Department of Justice. Farmers, ranchers, and other interested persons may not be aware of this and may not know to whom or how to file a complaint or tip if they suspect a violation of those laws or regulations. This joint complaint portal allows those farmers, ranchers and interested persons to go to one website to submit information and USDA and DOJ will determine the appropriate jurisdiction and any follow up actions. This information collection is necessary for PSD and DOJ to monitor and examine complaints regarding financial, competitive, and trade practices in the livestock, meat packing and poultry industries. The purpose of this notice is to solicit comments from the public concerning PSD's information collection.

Estimate of Burden: Public reporting burden for this collection of information is estimated to average 1.5 hours per response.

Respondents: Livestock auction markets, livestock dealers, packer buyers, meat packers, live poultry dealers, Livestock and poultry organizations, farmers, ranchers, and other interested persons.

Estimated Number of Respondents: 110.

Estimated Total Annual Responses: 1.5 hours.

Estimated Number of Responses per Respondent: 1.

Estimated Total Annual Burden on Respondents: 165 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Melissa Bailey,
Associate Administrator, Agricultural Marketing Service.

[FR Doc. 2022-07629 Filed 4-8-22; 8:45 am]

BILLING CODE P